DEPARTMENT OF THE INTERIOR

Bureau of Land Management

[NV-930-1430-01; N-74103]

Notice of Realty Action; Nevada

AGENCY: Bureau of Land Management, Interior.

ACTION: Notice.

SUMMARY: The following land in Elko County, Nevada has been examined and identified as suitable for disposal by direct sale, including the mineral estate of no more than nominal value, excluding oil and gas and geothermal resources, under section 203 and section 209 of the Federal Land Policy and Management Act (FLPMA) of October 21, 1976 (43 U.S.C. 1713 and 1719) at no less than fair market value:

Mount Diablo Meridian, Nevada

T. 42 N., R. 60 E., Sec. 19, NW¼NW¼NE¼, E½NE¼NE¼NW¼.

Comprising 15.00 acres, more or less.

The above described land is being offered as a direct sale to Lana J. and William H. Gibbs. The land will not be offered for sale until at least 60 days after the date of publication of this notice in the Federal Register.

FOR FURTHER INFORMATION CONTACT: Detailed information concerning this action is available for review at the Bureau of Land Management, Elko Field Office, 3900 E. Idaho Street, Elko, Nevada.

SUPPLEMENTARY INFORMATION: Disposal of the land is in conformance with the Wells Resource Management Plan. The land is not needed for any resource program and is not suitable for management by the Bureau or another Federal department or agency. The land is prospectively valuable for oil and gas and geothermal resources. Therefore, the mineral estate, excluding oil and gas and geothermal resources, will be conveyed simultaneously with the sale of the surface estate. Acceptance of the sale offer will constitute an application to purchase the mineral estate having no more than nominal value, excluding oil and gas and geothermal resources. A non-refundable fee of $50.00 will be required with the purchase money. Failure to submit the purchase money and the non-refundable filing fee for the mineral estate within the time frame specified by the authorized officer will result in cancellation of the sale.

Upon publication of this Notice of Realty Action in the Federal Register, the lands will be segregated from all forms of appropriation under the public land laws, including the mining laws, but not the mineral leasing laws or disposals pursuant to Sections 203 and 209 of FLPMA. The segregation shall terminate upon issuance of a patent or other document of conveyance, upon publication in the Federal Register of a Notice of Termination of Segregation, or 270 days from date of this publication, which ever occurs first.

The patent, when issued, will contain the following reservations to the United States:

1. A right-of-way thereon for ditches and canals constructed by the authority of the United States, Act of August 30, 1890, (43 U.S.C. 945).

2. Oil and gas and geothermal resources. A more detailed description of this reservation, which will be included in the patent document, is available for review at the Elko Field Office.

For a period of 45 days from the date of publication in the Federal Register, interested parties my submit comments to the Bureau of Land Management, Elko Field Office, 3900 E. Idaho Street, Elko, Nevada 89801. Any adverse comments will be evaluated by the State Director, who may sustain, vacate or modify this realty action and issue a final determination. In the absence of timely filed objections, this realty action will become a final determination of the Department of the Interior.

Dated: June 25, 2001.
Helen Hankins
Elko Field Manager.

[FR Doc. 01-19036 Filed 7-30-01; 8:45 am]

BILLING CODE 4310-HC-P